FEDERAL COMMUNICATIONS COMMISSION

[DA 03-2057]

ITFS, MDS, and MMDS Pending Applications

AGENCY: Federal Communications Commission.

ACTION: Notice.

SUMMARY: In this document, the Federal Communications Commission's (FCC's) Public Safety and Private Wireless Division of the Wireless Telecommunications Bureau dismisses applications where the applicants did not respond to an October 18, 2002 public notice requiring applicants to affirm their interest in those applications. The public notice also dismisses legal matters relating to applications that are being dismissed in the public notice.

FOR FURTHER INFORMATION CONTACT: For questions relating to legal matters dismissed as a result of this public notice, please contact John J. Schauble, Chief, Policy and Rules Branch, Public Safety and Private Wireless Division at 202-418-0797. For all other questions relating to this Public Notice, contact Mary Shultz, Branch Chief, or Ruth Taylor, Chief, Microwave Section, Licensing and Technical Analysis Branch at 717-338-2646.

SUPPLEMENTARY INFORMATION: This is a summary of the FCC's Public Notice, DA 03-2057, released on June 20, 2003. The full text of this document is available for inspection and copying during normal business hours in the FCC Reference Center, 445 12th Street, SW., Washington, DC 20554. The complete text may be purchased from the FCC's copy contractor, Qualex International, 445 12th Street SW., Room CY-B402, Washington, DC 20554. The full text may also be downloaded at: http://www.fcc.gov. Alternative formats are available to persons with disabilities by contacting Brian Millin at (202) 418-7426 or TTY (202) 418-7365 or at bmillin@fcc.gov.

1. On October 18, 2002, the Wireless Telecommunications Bureau (WTB) released a Public Notice (October Public Notice), 67 FR 69010, November 14, 2002, in which it sought to ensure that it had a complete and accurate listing of all licenses and pending applications in the Instructional Television Fixed Service (ITFS), the Multipoint Distribution Service (MDS), and the Multichannel Multipoint Distribution Service (MMDS). The Public Notice referenced six different tables of licensing information. Specifically, Table E listed all pending applications for ITFS and Table F listed all pending applications for MDS and MMDS. Tables E and F contained the following information for each pending application: licensee name, file number, application purpose, call sign, facility ID, transmitter city/state, BTA and channel. The WTB required that all ITFS, MDS and MMDS licensees and applicants review and verify the information contained in these tables. For pending applications filed prior to March 25, 2002, the WTB required that the applicant respond in writing by December 18, 2002 if continued processing was desired. The time for licensees and applicants in these services to respond to the October Public Notice was extended to February 3, 2003. This deadline was further extended to February 21, 2003.

2. Appendix A to this Public Notice contains a list of those pending ITFS applications with a filing date prior to March 25, 2002 where the applicant/licensee has not responded to the October Public Notice. Appendix B to this Public Notice contains a list of those pending MDS and MMDS applications for with a filing date prior to March 25, 2002 where the applicant/licensee has not responded to the October Public Notice. In the October Public Notice, WTB indicated, “For any applications for which written affirmations requesting further processing have not been received, those applications will be dismissed without prejudice.” Accordingly, it is ordered, pursuant to section 4(i) of the Communications Act of 1934, as amended, 47 U.S.C. 154(i) and §§ 21.28(d) and 73.3568(a)(1) of the Commission's Rules, 47 CFR 21.28(d), 73.3568(a)(1), the applications listed in Appendix A and Appendix B to this Public Notice are hereby dismissed without prejudice.

3. In addition, as a result of the dismissal of the applications listed in Appendices A and B, certain legal matters are now moot. Those legal matters consist of petitions to deny or petitions for reconsideration filed with respect to those applications, or complaints filed with respect to licenses that have now expired or been forfeited because of the dismissal of renewal applications for those licenses. Since the underlying applications have now been dismissed, there is no need to address the related legal matters. Accordingly, it is ordered, pursuant to section 4(i) of the Communications Act of 1934, as amended, 47 U.S.C. 154(i) and §§ 21.28(d) and 73.3568(a)(1) of the Commission's rules, 47 CFR 21.28(d), 73.3568(a)(1), the pending legal matters listed in Appendix C to this Public Notice are hereby dismissed with prejudice.

Federal Communications Commission.
D'wana R. Terry,
Chief, Public Safety and Private Wireless Division, Wireless Telecommunications Bureau.

ITFS Applications Being Dismissed
Licensee name | File No. | Purp | Call sign | Fac ID | Transmitter city/state | BTA | Channel list
AGAPE CHRIST SCHOOL OF NEW COVENANT | BPIF-19920228DF | P | NEW | 606 | MALDEN, MO |  | GG
ALAMOGORDO PUBLIC SCHOOL | BPIF-19951017AD | P | NEW | 79457 | ALAMOGORD, NM |  | AG
ALAMOGORDO PUBLIC SCHOOL | BPIF-19951017AE | P | NEW | 79465 | DEMING, NM |  | CG
ALBA HIGH | BMPIF-19950914KV | MP | WNC634 | 826 | BUCKS, AL |  | AG
ALBION COMMUNITY DEVELOPMENT CORP | BALIF-20010214AAE | AL | WLX584 | 875 | BUFFALO, NY |  | A1 A2
ALBION COMMUNITY DEVELOPMENT CORP | BMAIF-20000818ARV | MP | WLX584 | 875 | BUFFALO, NY |  | A1 A2
ALBION COMMUNITY DEVELOPMENT CORP | BPIF-19930128DF | P | NEW | 878 | DEERFIELD, NY |  | BG
ALBION COMMUNITY DEVELOPMENT CORP | BRIF-20020304AAX | R | WLX583 | 879 | BROWNSVILLE, VT |  | AG
ALTO INDEPEND SCHOOL DISTRICT | BLMPIF-20011012AAE | LMP | WLX431 | 1184 | KOSSMUTH, TX |  | C1
AMARILLO INDEPENDENT SCHOOL DISTIRCT | BPIF-19910722DE | P | NEW | 1232 | AMARILLO, TX |  | AG
AMARILLO INDEPENDENT SCHOOL DISTRICT | BPIF-19910722DD | P | NEW | 1233 | AMARILLO, TX |  | BG
AMERICAN UNIVERSITY OF PUERTO RICO | BMPIF-19950707DC | LMP | WLX323 | 2092 | AGUA, PR |  | BG
ARIZONA BD OF REGENT/AZ ST UNIV | BEIFB-20011210AAK | E | WND497 | 90683 | SHAW BUTTE, AZ |  | BG
ARIZONA BD OF REGENTS/AZ ST UNIV | BEIFB-20011210AAJ | E | WND496 | 90682 | SHAW BUTTE, AZ |  | AG
BAYSIDE ACADEMY | BEIF-20020306AAS | E | WNC875 | 80795 | PRICHARD, AL |  | DG
BD OF ED, SPECIAL SCHOOL DIST. #1 | BMPIF-19951018AY | MP | WLX200 | 4196 | MINNEAPOLIS, MN |  | DG
BD OF REG EASTERN NEW MEXICO UNI | BPIF-19951020YB | P | NEW | 80941 | ALAMOGORDO, NM |  | DG
BD OF REGS OF NEW MEXICO STATE UNI | BPIF-19951020NI | P | NEW | 80247 | SILVER CITY, NM |  | AG
BD OF REGS OF NEW MEXICO STATE UNI | BPIF-19951020WW | P | NEW | 81061 | ALAMOGORDO, NM |  | AG
BELLSOUTH WIRELESS CABLE INC | BPIF-19980123DE | P | NEW | 89707 | ATLANTA, GA
BELLSOUTH WIRELESS CABLE, INC | BPIF-19980123DF | P | NEW | 89706 | ATLANTA, GA
BLOUNT HIGH | BMPIF-19950914HJ | MP | WNC635 | 5889 | BUCKS, AL |  | BG
BOOKCLIFF CHRISTIAN SCHOOL | BPIF-19951020TS | P | NEW | 80397 | GRAND JUNCTION, CO |  | GG
BOWDON PUBLIC SCHOOL | BMPIF-20000818AEC | MP | WLX944 | 6552 | BOWDON, ND |  | A4
BRADLEY COUNTY SCHOOL SYSTEM | BMAIF-20010605AAB | P | NEW | 80437 | FAIRMONT, TN |  | A3 A4
BRIGHAM YOUNG UNIVERSITY | BEIF-20010412AAI | E | WNC989 | 80667 | PROVO, UT |  | GG
BROWN UNIV IN PROV. ST/RI AND PROV | BRIF-19990301AAD | R | WLX200 | 4196 | MINNEAPOLIS, MN |  | DG
BRUNSWICK COMMUNITY COLLEGE | BPIFB-20020228AAG | P | NEW | 308197 | BURGAW, NC |  | BG
BRUNSWICK COMMUNITY COLLEGE | BPIFB-20020228AAH | P | NEW | 308198 | BURGAW, NC |  | BG
BURLINGTON COLLEGE | BPIF-19911008DA | P | NEW | 7850 | NORTHFIELD, VT |  | BG
BURLINGTON COLLEGE | BPIF-19911008DX | P | NEW | 7852 | SHOREHAM, VT |  | BG
BURLINGTON COLLEGE | BPIF-19920110DE | P | NEW | 7848 | WINDSOR, VT |  | BG
BURLINGTON COLLEGE | BPIF-19920110DG | P | NEW | 7843 | THETFORD, VT |  | BG
BUTTE COUNTY OFFICE OF EDUCATION | BSTAIF-20000309AAL | STA | WND221 | 80541 | CHICO, CA |  | BG
CALIFORNIA POLYTECHNIC STATE UNIVERSITY | BPIF-19951020ZQ | P | NEW | 80793 | SAN LUIS OBISPO, CA |  | GG
CARIBBEAN UNIVERSITY | BMPIF-20000818CZL | LMP | WLX315 | 8795 | AGUAS BUENAS, PR |  | CG
CARTERET COMMUNITY COLLEGE | BPIF-19951020TX | P | NEW | 80451 | JACKSONVILLE, NC |  | AG
CASPER COLLEGE | BPIF-19951020T8 | P | NEW | 81065 | CASPER, WY |  | CG
CATHOLIC ARCHDIOCESE OF SAN JUAN | BMPIF-20000818CZK | LMP | WLX321 | 9336 | AGUAS BUENAS, PR |  | AG
CATHOLIC DIOCESE OF CAGUAS | BPIF-19951020WN | P | NEW | 80587 | GURABO, PR |  | AG
CATHOLIC UNIVERSITY OF PUERTO RICO | BPIF-19951020MB | P | NEW | 80213 | JAYUYA, PR |  | CG
CENTER FOR ECONOMIC AND SOCIAL JUSTICE | BPIF-19951020JZ | P | NEW | 79969 | WENATCHEE, WA |  | DG
CHAMPLAIN COLLEGE | BPIF-19911010DS | P | NEW | 10127 | SHOREHAM, VT |  | AG
CHAMPLAIN COLLEGE | BPIF-19920110DJ | P | NEW | 10123 | THETFORD, VT |  | AG
CHANDLER UNIFIED SCHOOL DISTRICT #80 | BPIF-19951020CC | P | NEW | 79597 | GLOBE, AZ |  | GG
CHRISTIAN EDUCATIONAL NETWORK | BPIF-19931230GH | P | NEW | 11000 | OMAHA, NE |  | DG
CHURCH POINT MINISTRIES | BPIF-19931230HL | P | NEW | 11190 | PLAQUEMINE, LA |  | CG
CLARENDON FOUNDATION | BEIF-20010821AAK | E | WNC903 | 80483 | SEBRING, FL |  | CG
CLARK COUNTY SCHOOL DISTRICT | BPIFB-20010702AAD | P | NEW | 308024 | HENDERSON, NV |  | E2
CLARK COUNTY SCHOOL DISTRICT | BPIFB-20010702AAF | P | NEW | 308026 | HENDERSON, NV |  | E2
CLARK COUNTY SCHOOL DISTRICT | BPIFB-20010702AAN | P | NEW | 308034 | HENDERSON, NV |  | E2
CLARK COUNTY SCHOOL DISTRICT | BPIFB-20010702AAP | P | NEW | 308036 | HENDERSON, NV |  | E2
CLARK COUNTY SCHOOL DISTRICT | BPIFB-20010702AAX | P | NEW | 308045 | HENDERSON, NV |  | E2
CLARK COUNTY SCHOOL DISTRICT | BPIFH-20010702AAC | P | NEW | 308023 | HENDERSON, NV |  | E2
CLARK COUNTY SCHOOL DISTRICT | BPIFH-20010702AAE | P | NEW | 308025 | HENDERSON, NV |  | E2
CLARK COUNTY SCHOOL DISTRICT | BPIFH-20010702AAM | P | NEW | 308033 | HENDERSON, NV |  | E2
CLARK COUNTY SCHOOL DISTRICT | BPIFH-20010702AAO | P | NEW | 308035 | HENDERSON, NV |  | E2
CLARK COUNTY SCHOOL DISTRICT | BPIFH-20010702AAW | P | NEW | 308044 | HENDERSON, NV |  | E2
CLEVELAND COMMUNITY COLLEGE | BPIF-19951020OC | P | NEW | 80317 | GAFFNEY, SC |  | AG
COCHISE COUNTY SCHOOL SUPERINTENDENT'S O | BPIF-19951020NG | P | NEW | 80215 | SIERRA VISTA, AZ |  | AG
COMSTOCK INDEPENDENT SCHOOL DISTRICT | BPIF-19951020VM | P | NEW | 80467 | DEL RIO, TX |  | CG
CONCORD COMMUNITY SCHOOLS | BPIF-19920717DB | P | NEW | 13554 | JACKSON, MI |  | BG
COTTON VALLEY HIGH SCHOOL | BPIF-19931230DB | P | NEW | 14023 | SHREVEPORT, LA |  | AG
COUSHATTA ELEMENTARY SCHOOL | BPIF-19931230IG | P | NEW | 14213 | NATCHITOCHES, LA |  | CG
COUSHATTA HIGH SCHOOL | BPIF-19931230HI | P | NEW | 14214 | NATCHITOCHES, LA |  | AG
COVENANT COLLEGE | BPIF-19951020WO | P | NEW | 80597 | FAIRMONT, TN |  | CG
CRAVEN COMMUNITY COLLEGE | BPIF-19951020RF | P | NEW | 80967 | JACKSONVILLE, NC |  | BG
CRAVEN COUNTY SCHOOL SYSTEM | BPIF-19951020RQ | P | NEW | 80953 | JACKSONVILLE, NC |  | CG
DALLAS COUNTY BOARD OF EDUCATION | BPIF-19961223AZ | P | NEW | 85191 | BURNSVILLE, AL |  | DG
DELTA JUNIOR COLLEGE | BPIF-19921224DD | P | NEW | 16534 | BATON ROUGE, LA |  | CG
DEMING PUBLIC SCHOOLS | BPIF-19951018AS | P | NEW | 79903 | DEMING, NM |  | AG
DEMING PUBLIC SCHOOLS | BPIF-19951019BM | P | NEW | 81035 | ALAMOGORDO, NM |  | CG
DES MOINES JEWISH ACADEMY | BPIF-19931230DW | P | NEW | 16721 | DES MOINES, IA |  | CG
DIOCESE OF BATON ROUGE | BPIF-19931229GU | P | NEW | 16949 | PLAQUEMINE, LA |  | BG
DOYLINE HIGH SCHOOL | BPIF-19931230DO | P | NEW | 17498 | SHREVEPORT, LA |  | B3 B4
DUVAL COUNTY SCHOOL BOARD | BLNPIF-20010123AAO | LNP | WLX922 | 17773 | JACKSONVILLE, FL |  | AG
EAST BATON ROUGE PARISH SCHOOL | BPIF-19931230GZ | P | NEW | 18186 | PLAQUEMINE, LA |  | BG
EAST VALLEY INSTITUTE OF TECHNOLOGY DIST | BPIF-19951020DX | P | NEW | 79899 | GLOBE, AZ |  | BG
EASTMONT SCHOOL DISTRICT #206 | BPIF-19951020ZD | P | NEW | 80737 | WENATCHEE, WA |  | DG
EMERSON COLLEGE | BMPIF-19960919AB | MP | WHR758 | 19480 | BOSTON, MA |  | C1
EMERSON COLLEGE | BPIF-19960919AA | P | NEW | 86592 | BOSTON, MA |  | A3 A4
EUDORA UNIFIED SCHOOL DISTRICT #491 | BRIF-20010821AAJ | R | WLX327 | 19819 | OTTAWA, KS |  | CG
EVANGEL ACADEMY | BPIF-19951020SX | P | NEW | 80327 | SHREVEPORT, LA |  | GG
FARGO PUBLIC SCHOOLS | BPIFB-20000818DLH | P | NEW | 307802 | AMENIA, ND |  | CG
GRAMBLING STATE UNIVERSITY | BPIF-19930219DO | P | NEW | 24742 | MONROE, LA |  | DG
HALE COUNTY BOARD OF EDUCATION | BMPIF-19961223FZ | MP | WNC604 | 25849 | BURNSVILLE, AL |  | BG
HALE COUNTY HIGH SCHOOL | BMPIF-19961223DE | MP | WNC603 | 25848 | BURNSVILLE, AL |  | AG
HALL SUMMIT HIGH SCHOOL | BPIF-19931230HN | P | NEW | 25876 | NATCHITOCHES, LA |  | BG
HEARD HIGH & MIDDLE SCHOOL | BMPIF-19961223BF | LMP | WLX861 | 26605 | FRANKLIN, GA |  | BG
HISPANIC INFO & TELEC NETWORK, INC | BPIFH-20000818AJO | P | NEW | 305436 | TIVERTON, RI |  | B1 B2 B3
HISPANIC INFO & TELEC NETWORK, INC | BPIFH-20010420AEK | P | NEW | 307919 | TIVERTON, RI |  | BG
HISPANIC INFO. & TELECO. NETWORK, INC | BPIF-19951016BO | P | NEW | 81103 | RICHMOND, VA |  | D1 D2
HOLY ANGEL SCHOOL | BPIF-19951020BT | P | NEW | 79773 | GLOBE, AZ |  | DG
HOT SPRINGS CITY SCHOOL DISTRICT | BPIF-19951019CM | P | NEW | 79609 | HOT SPRINGS, AR |  | CG
IBERIA PARISH SCHOOL BOARD | BPIF-19951020PI | P | NEW | 80229 | YOUNGSVILLE, LA |  | GG
IBERVILLE PARISH SCHOOL | BPIF-19931230HE | P | NEW | 28198 | PLAQUEMINE, LA |  | GG
INDIANA HIGHER EDUCATION TELECOMMUNICATI | BEIF-20010228AAF | E | WLX252 | 66500 | BEDFORD, IN |  | GG
INDIANA HIGHER EDUCATION TELECOMMUNICATI | BMPIF-19950914ES | MP | WGI228 | 66501 | WEST LAFAYETTE, IN |  | BG
INDIANA HIGHER EDUCATION TELECOMMUNICATI | BMPIF-19951020P7 | LMP | WHR825 | 66533 | RENSSELAER, IN |  | CG
INDIANA HIGHER EDUCATION TELECOMMUNICATI | BPIFH-20000818AOP | P | NEW | 305642 | INDIANAPOLIS, IN |  | AG
IRA INDEPENDENT SCHOOL DISTRICT | BPIF-19920424DZ | P | NEW | 29133 | SNYDER, TX |  | CG
ISOTHERMAL COMMUNITY COLLEGE | BPIF-19951020PL | P | NEW | 80253 | GAFFNEY, SC |  | CG
KENNETT PUBLIC SCHOOL DISTIRCT NO. 39 | BPIF-19920228DG | P | NEW | 34021 | MALDEN, MO |  | DG
KENT COUNTY VOC TECH SCHOOL DIST | BPIF-19950818DM | P | NEW | 77703 | WOODSIDE, DE |  | AG
LAKE FOREST SCHOOL DISTRICT | BPIF-19950818DN | P | NEW | 77704 | WOODSIDE, DE |  | BG
LAMAR COUNTY BOARD OF EDUCATION | BEIF-20020131AAZ | E | WNC281 | 36450 | BANKSTON, AL |  | CG
LAS CRUCES PUBLIC SCHOOLS | BPIF-19951018AT | P | NEW | 79915 | ALAMOGORDO, NM |  | DG
LAS CRUCES PUBLIC SCHOOLS | BPIF-19951019BY | P | NEW | 79505 | SILVER CITY, NM |  | DG
LAWRENCE COUNTY BOARD OF EDUCATION | BMPIF-19961223EZ | MP | WNC488 | 36749 | BURNSVILLE, AL |  | CG
LEHIGH VALLEY ASSOCIATION OF INDEPENDENT | BPIF-19951019AH | P | NEW | 79529 | ALLENTOWN, PA |  | AG
LENOIR COMMUNITY COLLEGE | BPIF-19951020CS | P | NEW | 79747 | TRENTON, NC |  | AG
LIFE TABERNACLE & ACADEMY | BPIF-19951020ZO | P | NEW | 80771 | GRAND JUNCTION, CO |  | CG
LIFE TABERNACLE AND ACADEMY | BPIF-19951020ZF | P | NEW | 80745 | DELTA, CO |  | AG
LOUISIANA ART INSTITUTE | BPIF-19921224DE | P | NEW | 38582 | BATON ROUGE, LA |  | GG
LOUISIANA STATE UNIV ALUMNI ASSOC | BPIF-19931228DI | P | NEW | 38609 | PLAQUEMINE, LA |  | GG
LOUISIANA STATE UNIV ALUMNI ASSOC | BPIF-19931229DC | P | NEW | 38608 | NATCHITOCHES, LA |  | CG
LOUISIANA STATE UNIV ALUMNI ASSOC | BPIF-19931229HP | P | NEW | 38611 | RUSTON, LA |  | CG
LSU ALUMNI ASSOCIATION | BPIF-19951020IG | P | NEW | 79859 | DELHI, LA |  | CG
MACOMB INTERMEDIATE SCHOOL DISTRICT | BEIF-20020222AAB | E | WHR914 | 39555 | CLINTON TOWNSHIP, MI |  | B3 B4
MARAIA DES CYGNES VALLEY US DIST 456 | BRIF-20010821AAI | R | WLX331 | 39864 | OTTAWA, KS |  | BG
MESA COUNTY VALLEY SCHOOL DISTRICT NO. 5 | BPIF-19951020S8 | P | NEW | 80945 | GRAND JUNCTION, CO |  | AG
MESA STATE COLLEGE | BPIF-19951020FK | P | NEW | 79825 | GRAND JUNCTION, CO |  | BG
MESA UNIFIED SCHOOL DISTRICT #4 | BPIF-19951020QF | P | NEW | 80235 | GLOBE, AZ |  | DG
MILWAUKEE AREA DIST BD TECH ADULT ED | BPIFH-20000818ATC | P | NEW | 305784 | MILWAUKEE, WI |  | G2 G3 G4
MILWAUKEE BD. OF SCHOOL DIRECTORS | BLMPIF-19961220AK | LMP | KHF80 | 42668 | MILWAUKEE, WI |  | BG
MINDEN HIGH SCHOOL | BPIF-19931230DA | P | NEW | 42686 | RUSTON, LA |  | AG
MINEOLA UNION FREE SCHOOL DISTRICT | BLNPIF-19920630DA | LNP | KNZ71 | 42687 | MINEOLA, NY |  | GG
MULTIMEDIA DEVELOPMENT CORP | BPIFB-19990122EB | P | NEW | 92616 | PORTALES, NM |  | GG
NATRONA COUNTY SCHOOL DISTRICT NO. 1 | BPIF-19951020S9 | P | NEW | 80955 | CASPER, WY |  | DG
NEBRASKA CITY SCHOOL DIST 111 | BMPIF-19961223CP | MP | WNC659 | 47958 | TECUMSEH, NE |  | BG
NEEDLES UNIFIED SCHOOL DISTRICT | BPIF-19951020IS | P | NEW | 80009 | BULLHEAD CITY, AZ |  | AG
NETWORK FOR INSTRUCTIONAL TV INC | BMPIF-19950914JO | MP | WLX951 | 48316 | ANDERSON, IN |  | DG
NEW CASTLE CTY VOC TECH SCHOOL DIST | BPIF-19950818DL | P | NEW | 77705 | WOODSIDE, DE |  | GG
NEW JERSEY PUBLIC B/CG AUTHORITY | BMPIF-19950914KB | MP | WLX250 | 48476 | TRENTON, NJ |  | C2 C3 C4
NEW JERSEY PUBLIC B/CG AUTHORITY | BMPIF-19950914KH | MP | WHR822 | 48459 | WARREN TOWNSHIP, NJ |  | GG
NORTH CENTRAL EDUCATIONAL SERVICE | BPIF-19951020HW | P | NEW | 81053 | WENATCHEE, WA |  | GG
NORTHEAST LOUISIANA UNIVERSITY | BPIF-19951020SR | P | NEW | 80423 | MONROE, LA |  | CG
NORTHWESTERN STATE UNIVERSITY | BEIF-20011218AAE | E | WND344 | 85247 | LEESVILLE, LA |  | BG
NORWICH UNIVERSITY | BPIF-19911008DD | P | NEW | 49809 | SHOREHAM, VT |  | CG
NORWICH UNIVERSITY | BPIF-19920110DF | P | NEW | 49805 | WINDSOR, VT |  | CG
NOWATA PUBLIC SCHOOLS | BNPIF-19920825DB | NP | WLX596 | 49829 | LENAPAH, OK |  | AG
OKLAHOMA EDUCATIONAL TV AUTHORITIY | BNPIF-19950711DU | LNP | WHR559 | 50202 | OKLAHOMA CITY, OK |  | CG
OKLAHOMA STATE UNIVERSITY | BPIF-19931230AA | P | NEW | 90623 | HOCKER, OK |  | GG
ONSLOW CONTINUING EDUCATION | BPIF-19951020MN | P | NEW | 80113 | JACKSONVILLE, NC |  | BG
ONSLOW COUNTY SCHOOLS | BPIF-19951020LX | P | NEW | 80217 | JACKSONVILLE, NC |  | AG
ONSLOW EXCEPTIONAL CHILDREN | BPIF-19951020ML | P | NEW | 80129 | JACKSONVILLE, NC |  | D1 D2 D3
ONSLOW FEDERAL ACADEMICS | BPIF-19951020MJ | P | NEW | 80143 | JACKSONVILLE, NC |  | CG
OUACHITA ACADEMY OF ARTS AND SCIENCE | BMPIF-19950525EF | MP | WNC534 | 50770 | RAYVILLE, LA |  | BG
PANHANDLE AREA ED'L COOPERATIVE | BMPIF-19951020T4 | MP | WHR879 | 51460 | MARIANNA, FL |  | AG
PANHANLE AREA ED'L COOPERATIVE | BMPIF-19951020R4 | MP | WHR800 | 51476 | CHIPLEY, FL |  | GG
PARADISE UNIFIED SCHOOL DISTRICT | BSTAIF-20000309AAM | STA | WND222 | 80359 | CHICO, CA |  | DG
PORT ARTHUR INDEPEND SCHOOL DISTRICT | BEIF-20020221AAH | E | WLX356 | 53027 | VIDOR, TX |  | CG
PORTAGEVILLE SCHOOL DISTRICT | BPIF-19920228DE | P | NEW | 53051 | MALDEN, MO |  | CG
PORTALES HIGH SCHOOL | BPIFB-19990122EZ | P | NEW | 92629 | PORTALES, NM |  | CG
PORTLAND COMMUNITY COLLEGE | BPIFH-20000818CGZ | P | NEW | 307062 | VANCOUVER, WA |  | B3
PUERTO RICO MEDICAL ASSOCIATION | BMPIF-19950707DH | LMP | WLX322 | 53864 | AGUKAS BUENAS, PR |  | DG
REGION IV EDUCATION SERVICE CENTER | BPIFB-20000818CEI | P | NEW | 306983 | HOUSTON, TX |  | AG
REID INSTITUTE | BPIF-19951020HN | P | NEW | 81049 | PROVO, UT |  | CG
RICHMOND HILL CHRISTIAN ACADEMY | BPIF-19951020PH | P | NEW | 80207 | BLOOMINGDALE, GA |  | BG
ROMAN CATH DIOCESE OF RKVILLE CENTRE | BMPIF-19950914LZ | MP | KNZ65 | 57484 | UNIONDALE, NY |  | EG
ROMAN CATH DIOCESE ROCKVILLE CENTER | BNPIF-19950321DU | NP | WHR845 | 57482 | AMITYVILLE, NY |  | GG
ROMAN CATHOLIC COMMUNICATIONS CORP. DBA | BPIF-19951020A9 | P | NEW | 80807 | (RURAL), CA |  | CG
SAINT MICHAEL'S COLLEGE | BPIF-19911008DQ | P | NEW | 58591 | SHOREHAM, VT |  | DG
SAINT MICHAEL'S COLLEGE | BPIF-19920110DN | P | NEW | 58592 | WINDSOR, VT |  | DG
SAN CARLOS UNIFIED SCHOOL DISTRICT #2 | BPIF-19951020IZ | P | NEW | 79955 | GLOBE, AZ |  | BG
SAN LUIS COASTAL UNIFIED SCHOOL DISTRICT | BPIF-19951020XF | P | NEW | 80619 | SAN LUIS OBISPO, CA |  | GG
SANTA FE TRAIL USD #434 SCHOOL DIST | BRIF-20010821AAH | R | WLX330 | 59075 | OTTAWA, KS |  | AG
SAREPTA HIGH SCHOOL | BPIF-19931230DC | P | NEW | 59128 | SHREVEPORT, LA |  | CG
SCHOOL DIST OF CITY OMAHA ST OF NEB | BRIF-19991201AAE | R | KWU42 | 59336 | OMAHA, NE |  | A1 A2
SCHOOL DISTRICT OF PALM BEACH COUNTY | BALIF-9550758 | AL | KZB30 | 300048 | LOXAHATCHEE, FL |  | HG
SCIOTO COUNTY EDUCATIONAL SERVICE CENTER | BPIF-19951020DT | P | NEW | 79801 | OTWAY, OH |  | GG
SEMINOLE INDEPEND SCHOOL DISTRICT | BMPIF-19961223DD | MP | WNC328 | 59666 | SEMINOLE, TX |  | GG
SHEKINAH NETWORK | BPIF-19951019BJ | P | NEW | 79431 | MIDWAY, NC |  | GG
SHELBY SCHOOL DISTRICT #32 | BNPIF-19981006DO | NP | WNC480 | 60084 | SILVER CREEK, NE |  | GG
SIBLEY HIGH SCHOOL | BPIF-19931230DL | P | NEW | 60274 | RUSTON, LA |  | B1 B2
SILVER CONSOLIDATED SCHOOLS | BPIF-19951019CA | P | NEW | 79519 | SILVER CITY, NM |  | AG
SOUTHERN UNIV AGRICULTURAL & MECH COL | BPIF-19931230GW | P | NEW | 61380 | PLAQUEMINE, LA |  | AG
SOUTHLAND C-9 SCHOOL DISTRICT | BPIF-19920228DD | P | NEW | 61412 | MALDEN, MO |  | AG
SOUTHWESTERN OKLAHOMA STATE UNIV | BEIF-20020228AAA | E | WNC581 | 61589 | CORN, OK |  | BG
ST ANDREWS EPISCOPAL CHURCH | BPIF-19951020YK | P | NEW | 80983 | SCOTTSBLUFF, NE |  | GG
ST MARY'S CITY SCHOOLS | BMPIFB-19950829HJ | MP | WLX977 | 62067 | CRIDERSVILLE, OH |  | CG
ST. AGNES; SCHOOLS FOUNDATION | BPIF-19951020VX | P | NEW | 80609 | SCOTTSBLUFF, NE |  | AG
TATTNALL COUNTY BOARD OF EDUCATION | BPIF-19951020T6 | P | NEW | 81041 | BLOOMINGDALE, GA |  | DG
TECHNICAL TRADES INSTITUTE | BPIF-19951020SH | P | NEW | 80445 | GRAND JUNCTION, CO |  | D1 D2 D3
TEEWINOT LICENSING INC | BPIF-19980103DP | P | NEW | 89826 | BURLEY, ID
TENNESSEE TEMPLE UNIVERSITY | BMAIF-20010605AAC | P | NEW | 80797 | FAIRMONT, TN |  | A1 A2
TEXAS STATE TECHNICAL COLLEGE | BPIF-19951020UF | P | NEW | 80379 | LONGVIEW, TX |  | GG
TEXAS STATE TECHNICAL COLLEGE | BPIF-19951020VI | P | NEW | 80505 | DEL RIO, TX |  | AG
THE BOARD OF EDUCATION OF THE BOROUGH OF | BPIF-19951020RN | P | NEW | 80975 | TOMS RIVER, NJ |  | GG
THE BOARD OF REGENTS OF THE UNIVERSITY S | BPIF-19951020VB | P | NEW | 80681 | BLOOMINGDALE, GA |  | DG
THE CRARY SCHOOL | BPIFB-20020207AAA | P | NEW | 308182 | BURGAW, NC |  | CG
THE CRARY SCHOOL | BPIFB-20020207AAB | P | NEW | 308183 | BRUNSWICK, NC |  | CG
THE INFORMATION RESOURCE FOUNDATION | BPIF-19951020PK | P | NEW | 80245 | GRAND JUNCTION, CO |  | BG
THE REGENTS OF THE UNIV. OF CA | BMPIF-19951020L9 | MP | WAQ323 | 66324 | SANTA BARBARA, CA |  | AG
THE SCHOOL BD. OF LEE COUNTY FLORIDA | BMPIF-20000818AIV | MP | WBE805 | 66341 | FT. MYERS, FL |  | B1 B2 B3
TOMS RIVER BOARD OF EDUCATION | BPIF-19951020Q1 | P | NEW | 80913 | TOMS RIVER, NJ |  | DG
TRANSITION NETWORK, INC | BLIF-19990115DY | L | WNC806 | 80363 | HILO, HI |  | AG
TRICJU GEBREW ACADEMY OF ATLANTIC COUNTY | BPIF-19951020BH | P | NEW | 79671 | CORBIN CITY, NJ |  | GG
TRINITY COLLEGE OF VERMONT | BPIF-19911010DT | P | NEW | 68107 | SHOREHAM, VT |  | GG
TRINITY COLLEGE OF VERMONT | BPIF-19911010DW | P | NEW | 68105 | NORTHFIELD, VT |  | GG
TRINITY COLLEGE OF VERMONT | BPIF-19920110DD | P | NEW | 87010 | WINDSOR, VT |  | GG
TRINITY COLLEGE OF VERMONT | BPIF-19920110DH | P | NEW | 68103 | THETFORD, VT |  | GG
TROY STATE UNIVERSITY MONTGOMERY | BPIF-19961223GN | P | NEW | 85237 | BURNSVILLE, AL |  | GG
TYLER INDEPENDENT SCHOOL DISTRICT | BPIF-19951020OR | P | NEW | 80569 | TYLER, TX |  | GG
UATH CONTRACTORS SCHOOL, L.L.C | BPIF-19951020HO | P | NEW | 81047 | PROVO, UT |  | DG
UNIFIED SCHOOL DISTRIT #286 | BNPIF-19920825DA | NP | WLX605 | 68777 | LENAPAH, OK |  | BG
UNION TOWNSHIP SCHOOLS | BLNPIF-19920601DF | LNP | WGM95 | 68814 | UNION CITY, NJ |  | C1
UNIVERSITY OF NORTH CAROLINA | BPIF-19951020IU | P | NEW | 79991 | JACKSONVILLE, NC |  | CG
UNIVERSITY OF NORTH CAROLINA CENTER FOR | BPIF-19951020D5 | P | NEW | 80853 | JACKSONVILLE, NC |  | BG
UNIVERSITY OF TEXAS HEALTH SCIENCE CTR A | BPIFB-20000818DFG | P | NEW | 307663 | PASADENA, TX |  | BG
UTAH VALLEY STATE COLLEGE | BPIF-19951020YZ | P | NEW | 80717 | PROVO, UT |  | DG
VERMONT WIRELESS COOPERATIVE | BMPIF-19951016AU | MP | WNC674 | 69969 | EAST ALBURG, VT |  | GG
VERMONT WIRELESS COOPERATIVE | BMPIF-19951016BB | MP | WNC670 | 69973 | EAST ALBURG, VT |  | A2 A3 A4
VERMONT WIRELESS COOPERATIVE | BMPIFB-19951016AY | MP | WNC671 | 69970 | EAST ALBURG, VT |  | BG
VERMONT WIRELESS COOPERATIVE | BMPIFB-19951016BA | MP | WNC673 | 69971 | EAST ALBURG, VT |  | DG
VERMONT WIRELESS COOPERATIVE | BMPIFB-19951016BK | MP | WNC672 | 69972 | EAST ALBURG, VT |  | CG
VIEWS ON LEARNING INC | BPIFB-20000818AFA | P | NEW | 305238 | CASSOPOLIS, MI |  | CG
VIEWS ON LEARNING, INC | BPIF-19951020HL | P | NEW | 84585 | DELTA, CO |  | D4
WASHINGTON COUNTY DISTRICT SCHOOL BD | BEIF-20010830AAH | E | WND293 | 80251 | COTTONDALE, FL |  | BG
WEBSTER JR. HIGH SCHOOL | BPIF-19931230DK | P | NEW | 71414 | RUSTON, LA |  | CG
WENATCHEE VALLEY COLLEGE COMMUNITY COLLE | BPIF-19951020ZE | P | NEW | 80741 | WENATCHEE, WA |  | BG
WEST SHORE SCHOOL DIST | BPIF-19951020GX | P | NEW | 79921 | HARRISBURG, PA |  | CG
WESTERN NEW MEXICO UNIVERSITY | BPIF-19951019AF | P | NEW | 79489 | DEMING, NM |  | GG
WESTERN NEW MEXICO UNIVERSITY | BPIF-19951019BL | P | NEW | 79437 | ALAMOGORDO, NM |  | GG

MDS and MMDS Applications Being Dismissed
Licensee name | File No. | Purp | Call sign | Fac ID | Transmitter city/state | BTA | Channel list
ADELPHIA BLAIRSVILLE, LLC | BRMD-20010430AAS | R | WMH689 | 301349 | MUNCIE, IN |  | EG
ALDA GOLD, INC | BPMDH-20000818BMR | P | NEW | 306407 | PASADENA, TX |  | HG
ALDA TUCSON, INC | BPMDH-20000818DHR | P | NEW | 307728 | TUCSON, AZ |  | 2A
ALDA TUCSON, INC | BPMDH-20000818DHV | P | NEW | 307733 | TUCSON, AZ |  | 1
ALDA WIRELESS HOLDINGS, INC | BRMD-20010328ADG | R | WLW697 | 301121 | DANVILLE, VA |  | EG
ALLIED PROPERTIES, INC | BPMD-20000818DMC | P | NEW | 308081 | STATE COLLEGE, PA | 429 | E2 E3 E4
ALLIED PROPERTIES, INC | BPMDH-20000818CRL | P | NEW | 307361 | STATE COLLEGE, PA | 429 | 1 2A
AMERICAN TELECASTING OF COLORADO SPRINGS | BPMDH-20000823AAA | P | NEW | 305311 | COLORADO SPRINGS, CO |  | 2A
AMERICAN TELECASTING OF COLUMBUS, INC | BPMDB-20000818DHL | P | NEW | 307722 | COLUMBUS, OH |  | H1
AMERICAN TELECASTING OF JACKSONVILLE, IN | BPMD-19970811XI | P | NEW | 303403 | JACKSONVILLE, FL | 212 | 1
AMERICAN TELECASTING OF LINCOLN, INC | BPMDH-20010611AAA | P | NEW | 307850 | LINCOLN, NE | 256 | 1
AMERICAN TELECASTING OF LINCOLN, INC | BPMDH-20010611AAB | P | NEW | 307851 | LINCOLN, NE | 256 | 2A
AMERICAN TELECASTING OF MEDFORD, INC | BLMPMDC-9550415 | LMP | WMX660 | 302487 | MEDFORD, OR |  | AG
AMERICAN TELECASTING OF MEDFORD, INC | BPMDC-9550297 | P | WMX660 | 302487 | MEDFORD, OR |  | AG
AMERICAN TELECASTING OF PORTLAND, INC | BPMDB-20000818BVY | P | NEW | 306705 | PORTLAND, OR |  | EG
AMERICAN TELECASTING OF RAPID CITY, INC | BMPMDC-9550371 | LMP | WMX635 | 302463 | RAPID CITY, SD |  | AG
AMERICAN TELECASTING OF ROCKFORD, INC | BEMD-9651213 | E | WMI326 | 301423 | JANESVILLE, WI |  | FG
AMERICAN TELECASTING OF YOUNGSTOWN, INC | BPMDH-20010611AAH | P | NEW | 307957 | YOUNGSTOWN, OH | 484 2A
AMERICAN TELECASTING, INC | BPMDC-9203938 | P | NEW | 302415 | STRASBURG, VA |  | BG
AMERICAN WIRELESS, INC DBA SKYVIEW TEC | BPMDH-20000818ACV | P | NEW | 305167 | ST. GEORGE, UT |  | 1
ARKSTAR PARTNERSGAMMA | BRMD-20010330AAR | R | WNTL298 | 302239 | DARDANELLE, AR |  | HG
ASC COMMUNICATIONS, INC | BALMD-19991202AAE | AL | WMH541 | 301311 | SAN DIEGO, CA |  | FG
ASC COMMUNICATIONS, INC | BEMD-9650762 | E | WMH541 | 301311 | SAN DIEGO, CA |  | FG
ASHEVILLE (E) WIRELESS CABLE PARTNERSHIP | BEMD-9651443 | E | WMX214 | 301563 | ASHEVILLE, NC |  | H2
B2 TELEVISION PARTNERSHIP | BMD-9750196 | ? | WNLM904 | 301811 | FAIRPORT, NY
BCW SYSTEMS, INC | BRMD-20010425AAO | R | WNTJ367 | 302133 | MALDEN, MO |  | HG
BIG SKY WIRELESS PARTNERSHIP | BPMDH-20000818ADC | P | NEW | 305175 | BUTTE, MT | 064 | 1 2A
BLAKE TWEDT | BPMDH-20010913AAD | P | NEW | 308120 | ERIE, PA | 131 | H3
BOLIN ENTERPRISES, INC | BTCMD-20020318AAA | TC | WLW800 | 301167 | JEWETT, IL |  | 1
BONANZA PARTNERS I | BEMD-9651067 | E | WNTM679 | 302271 | BISMARCK, ND |  | HG
BONNIE D. O'CONNELL | BMPMD-20000810AAE | MP | WMY295 | 301681 | MCGREGOR, GA |  | EG
BOWLING GREEN (F) WIRELESS CABLE PARTNER | BMPMDC-9650185 | MP | WMX675 | 302502 | BOWLING GREEN, KY |  | CG
BOWLING GREEN (F) WIRELESS CABLE PARTNER | BMPMDC-9650186 | MP | WMX650 | 302478 | BOWLING GREEN, KY | DG
BRIGHAM YOUNG UNIVERSITY | BPMDB-20000818CEP | P | NEW | 306990 | SANTEE, CA |  | H2
BRIGHAM YOUNG UNIVERSITY | BPMDH-20000818CYJ | P | NEW | 307129 | MILWAUKEE, WI |  | H2
BROADCAST DATA CORPORATION | BPMDH-20000818CYH | P | NEW | 307135 | MILWAUKEE, WI |  | H3
C & W ENTERPRISES, INC | BRMD-20010321AAP | R | WNTC543 | 301890 | SAN ANGELO, TX |  | H1
CENTURY MICROWAVE CORPORATION | BALMD-20000421AAC | AL | WMH689 | 301349 | MUNCIE, IN |  | EG
CFW LICENSES, INC | BPMDH-20000818CKB | P | NEW | 307162 | CHARLOTTESVILLE, VA | 075 2A
CONSOLIDATED TELCOM | BPMDC-9651585 | P | NEW | 302436 | KILLDEER, ND
DALE E. & DONNA L. LAWRENCE | BMPMDC-9550372 | LMP | WMX632 | 302460 | RAPID CITY, SD |  | CG
DAVID WIECHMAN | BMPMD-9450272 | MP | WMH573 | 301318 | LEXINGTON, KY |  | EG
DENNIS R. LONG | BALMD-9551597 | AL | WMI836 | 301490 | HARRISBURG, PA |  | FG
DIGITAL AND WIRELESS TELEVISION, L.L.C | BEMD-9750097 | E | WMX914 | 301634 | RIVERTON, WY |  | H1
DIGITAL AND WIRELESS TELEVISION, L.L.C | BEMD-9750098 | E | WMX912 | 301632 | RIVERTON, WY |  | H2
DIGITAL AND WIRELESS TELEVISION, L.L.C | BEMD-9750099 | E | WMX913 | 301633 | RIVERTON, WY |  | H3
DIGITAL AND WIRELESS TELEVISION, L.L.C | BPMDH-20000818BYR | P | NEW | 306820 | RYEGATE, MT | 041 | 1
DIGITAL AND WIRELESS TELEVISION, L.L.C | BPMDH-20000818BYT | P | NEW | 306822 | PONDEROSA, CO | 110 | E2 E3 E4
DIGITAL AND WIRELESS TELEVISION, L.L.C | BPMDH-20000818BZB | P | NEW | 306835 | RYEGATE, MT | 041 | E2 E3 E4
DIGITAL AND WIRELESS TELEVISION, L.L.C | BPMDH-20000818CDY | P | NEW | 306972 | RAPID CITY, SD | 369 | 1
DIGITAL AND WIRELESS TELEVISION, L.L.C | BPMDH-20000818CDZ | P | NEW | 306974 | RAPID CITY, SD | 369 | 2A
DURHAM LIFE BROADCASTING, INC | BEMD-9750031 | E | WMX524 | 301621 | AUBURN, NC |  | 1
E.T. PARTNERSHIP | BEMD-9651100 | E | WJL89 | 301006 | CARSON CITY, NV |  | 1
EAGLE TELEVISION, INC | BALMD-19990825AAW | AL | WLW726 | 301126 | PROWERS CITY, CO |  | H1
EAGLE TELEVISION, INC | BRMDC-20010402AEH | R | WMX658 | 302485 | PROWERS CTY, CO |  | BG
EAGLEVIEW TECHNOLOGIES, INC | BALMD-9651137 | AL | KFJ28 | 300024 | SPOKANE, FL |  | 1
EAGLEVIEW TECHNOLOGIES, INC | BRMD-9157876 | R | KFJ28 | 300024 | SPOKANE, FL |  | 1
EARL S. KIM | BEMD-9950056 | E | KFF79 | 300020 | LOS ANGELES, CA |  | 1
EARL S. KIM | BEMD-9950057 | E | KFI79 | 300022 | LA HABRA, CA |  | 1
EARL S. KIM | BEMD-9950058 | E | WPY40 | 302326 | LOS ANGELES, CA |  | 1
F CHANNEL BLOCK, KEY WEST FL PAY TV | BRMD-20010806AAJ | R | WMY476 | 301738 | KEY WEST, FL |  | FG
FORTUNA SYSTEMS CORPORATION | BPMDH-20000818DAC | P | NEW | 307582 | LINCOLN, NE |  | H1
FOUR PRO PLUS PARTNERS | BPMDC-9651566 | P | NEW | 302419 | FALLON, NV |  | DG
FOUR PRO PLUS PARTNERS | BPMDC-9651567 | P | NEW | 302420 | FALLON, NV |  | GG
G/S RIVERTON F SETTLEMENT GROUP | BEMDC-9750095 | E | WMX702 | 302528 | RIVERTON, WY |  | BG
G/S RIVERTON F SETTLEMENT GROUP | BEMDC-9750096 | E | WMX709 | 302535 | RIVERTON, WY |  | CG
GOULD COMMUNICATIONS | BRMD-9750579 | R | WNTF307 | 301932 | OMAHA, NE |  | H3
GRAND ALLIANCE CANTON E PARTNERSHIP | BPMDC-9200676 | P | NEW | 302391 | CANTON, OH |  |
GRAND ALLIANCE KALISPELL (F) PARTNERSHIP | BMPMDC-9750282 | MP | WMX686 | 302513 | KALISPELL, MT |  | BG
GRAND ALLIANCE KALISPELL (F) PARTNERSHIP | BMPMDC-9750283 | MP | WMX687 | 302514 | KALISPELL, MT |  | CG
GRAND ALLIANCE STERLING (F) PARTNERSHIP | BRMDC-20010330AEJ | R | WMX641 | 302469 | STERLING, CO |  | BG
GRAND ALLIANCE STERLING (F) PARTNERSHIP | BRMDC-20010330AEK | R | WMX637 | 302465 | STERLING, CO |  | CG
GRAND MMDS ALLIANCE RICHMOND E/P PARTNER | BEMD-9650751 | E | WHT735 | 300960 | RICHMOND, VA |  | EG
GRAND TELEPHONE COMPANY, INC. | BPMDC-9203812 | P | NEW | 302412 | JAY, OK |  | AG
GRAND WIRELESS COMPANY, INC | BPMD-19980721ND | P | NEW | 303648 | MARICAO, PR | 489 | H1
GRAND WIRELESS COMPANY, INC | BPMD-19980721NE | P | NEW | 304006 | MARICAO, PR | 489 | H3
GRAND WIRELESS COMPANY, INC | BPMD-19980721NF | P | NEW | 304007 | MARICAO, PR | 489 | H2
HEARTLAND WIRELESS COMMERCIAL CHANNELS | BPMD-19970926YJ | P | KNSD370 | 302807 | OLTON, TX | 264 | FG
IMPACT MARKETING INC | BPMDC-9203337 | P | NEW | 302410 | CHARLESTON, WV |  | DG
IMPACT MARKETING INC | BPMDC-9203338 | P | NEW | 302411 | CHARLESTON, WV |  | GG
IVAN C. NACHMAN | BEMD-9651119 | E | WNTH587 | 302023 | PORTLAND, ME |  | H1
IVAN C. NACHMAN | BPMDH-20010913AAB | P | NEW | 308117 | ERIE, PA | 131 | H1
JCL LA JUNTA COLORADO F GRAND ALLIANCE | BLMDC-9650228 | L | WMX669 | 302496 | LA JUNTA, CO |  | CG
JCL LA JUNTA COLORADO F GRAND ALLIANCE | BLMDC-9650229 | L | WMX621 | 302449 | LA JUNTA, CO |  | DG
JCL LA JUNTA COLORADO F GRAND ALLIANCE | BLMPMDC-9651552 | LMP | WMX621 | 302449 | LA JUNTA, CO |  | DG
JCL LA JUNTA COLORADO F GRAND ALLIANCE | BLMPMDC-9651553 | LMP | WMX669 | 302496 | LA JUNTA, CO |  | CG
JERRY ALBERT PAYNE | BRMD-20010425AAP | R | WMH440 | 301291 | MALDEN, MO |  | EG
JOHN DUDECK | BLNPMD-20010614AAK | LNP | WNTH475 | 302007 | LINCOLN, NE |  | H2
JOHN DUDECK | BPMDH-20010913AAC | P | NEW | 308118 | ERIE, PA | 131 | H2
JONSSON COMMUNICATIONS CORPORATION | BEMD-9651101 | E | WMH705 | 301352 | CARSON CITY, NV |  | EG
JONSSON COMMUNICATIONS CORPORATION | BEMD-9651104 | E | WMH709 | 301354 | CARSON CITY, NV |  | FG
JONSSON COMMUNICATIONS CORPORATION | BEMD-9651364 | E | WNTL575 | 302244 | CARSON CITY, NV |  | HG
JONSSON COMMUNICATIONS CORPORATION | BLMDC-20010724AAC | L | WMX625 | 302453 | CARSON CITY, NV |  | GG
JUNGON JUNG | BALMD-20010712AAM | AL | KNSC374 | 302921 | AGUAS BUENAS, PR | 488 | 1
KA3B2 TELEVISION PARTNERSHIP | BEMD-9651028 | E | WNTK907 | 302230 | OTWAY, OH |  | HG
KA3B2 TELEVISION PARTNERSHIP | BRMD-20010323AAU | R | WMH869 | 301384 | ELMIRA, NY |  | 1
KLONDIKE DATA SYSTEMS, INC | BPMDB-20000818DGI | P | NEW | 307695 | COLUMBUS, OH |  | H2
KRISAR, INC | BLMPMD-20000928AAC | LMP | WMI853 | 301501 | SOUTH BEND, IN |  | FG
KRISAR, INC | BPMDH-20000818CEX | P | NEW | 306998 | BINGHAMTON, NY |  | FG
LAWRENCE N. BRANDT | BEMD-9750025 | E | WMI818 | 301481 | BURLINGTON, VT |  | EG
LAWRENCE N. BRANDT | BMPMD-9350135 | MP | WMI818 | 301481 | BURLINGTON, VT |  | EG
LIBMOT COMMUNICATIONS PARTNERSHIP | BLMPMD-9551543 | LMP | WNTG452 | 301968 | OMAHA, NE |  | H2
LIBMOT COMMUNICATIONS PARTNERSHIP | BRMD-20010320ABG | R | WNTG452 | 301968 | OMAHA, NE |  | H2
LIBMOT COMMUNICATIONS PARTNERSHIP | BRMD-9750540 | R | WNTG452 | 301968 | OMAHA, NE |  | H2
LOIS HUBBARD | BRMD-20010402ABD | R | WMI307 | 301416 | SOUTH BEND, IN |  | EG
MARY C. SALVATO | BPMDH-20000818AFR | P | NEW | 305265 | BREMEN, IN |  | H2 H3
MARY C. SALVATO | BPMDH-20000818AFW | P | NEW | 305270 | WARREN, IN |  | H2 H3
MARY C. SALVATO | BPMDH-20000818DIL | P | NEW | 307746 | CASSOPOLIS, MI |  | H2 H3
MDS ASSOCIATES | BLMPMD-9550388 | LMP | WMI355 | 301435 | ESCONDIDO, CA |  | EG
MDS DIGITAL NETWORK, INC | BRMD-20010330ADO | R | KFI79 | 300022 | LA HABRA, CA |  | 1
MDS DIGITAL NETWORK, INC | BRMD-20010330AHV | R | KFF79 | 300020 | LOS ANGELES, CA |  | 1
MDS DIGITAL NETWORK, INC | BRMD-20010330AHW | R | WPY40 | 302326 | LOS ANGELES, CA |  | 1
MICKELSON MEDIA, INC | BRMD-20010402ABB | R | WLW907 | 301216 | DARIEN/BRUNSWICK, GA |  | FG
MINNESOTA VALLEY TV IMPROVEMENT CORPORAT | BMPMD-19990409VX | MP | KNSD315 | 303387 | GRANITE FALLS, MN | 477 | 2A
MINNESOTA VALLEY TV IMPROVEMENT CORPORAT | BMPMD-19990409VY | MP | KNSD312 | 302619 | GRANITE FALLS, MN | 477 | 1
MULTIMICRO, INC | BEMDC-9750244 | E | WMX704 | 302530 | BELPRE, OH |  | CG
MULTIMICRO, INC | BEMDC-9750245 | E | WMX703 | 302529 | BELPRE, OH |  | AG
MULTIMICRO, INC | BRMD-20010323ABE | R | WMI413 | 301472 | BELPRE, OH |  | FG
MWTV, INC | BLMPMD-20010821AAB | LMP | WLW894 | 301209 | DAVENPORT, IA |  | FG
NEW ENGLAND WIRELESS, INC | BPMDH-20010420ACB | P | NEW | 307884 | WEST LEBANON, NH |  | 1
NEW MEXICO MEDIA, LTD | BRMD-20010329AFT | R | WMI325 | 301422 | SANTA FE, NM |  | FG
NORTH FLORIDA MMDS PARTNERSHIP | BEMD-9750214 | E | WNTF690 | 301946 | UKIAH, CA |  | H1
NORTHEAST TELECOM, INC | BRMD-9750565 | R | WNTM557 | 302255 | WATERTOWN, NY |  | HG
NORTHEAST TELECOM, INC | BRMD-9750566 | R | WNTM689 | 302273 | MASSENA, NY |  | HG
NORTHERN RURAL CABLE TV COOPERATIVE INC | BMPMD-20010419AAD | LMP | WMX707 | 302533 | BATH, SD |  | CG
NORTHERN RURAL CABLE TV COOPERATIVE INC | BMPMD-20010419AAE | LMP | WMX708 | 302534 | BATH, SD |  | GG
NORTHERN RURAL CABLE TV COOPERATIVE, INC | BEMD-9850693 | E | WMY463 | 301733 | BATH, SD |  | 1
NORTHWEST SATELLITE NETWORK, INC | BLMDC-9550393 | L | WMX647 | 302475 | YAKIMA, WA |  | CG
NTELOS LICENSES, INC | BRMD-20010330AIX | R | WHT736 | 300961 | MIDLOTHIAN, VA |  | FG
NUCENTRIX SPECTRUM RESOURCES, INC | BLMPMDC-9651626 | LMP | WMX655 | 302482 | WATONGA, OK |  | CG
NUCENTRIX SPECTRUM RESOURCES, INC | BLMPMDC-9651627 | LMP | WMX654 | 302481 | WATONGA, OK |  | BG
NUCENTRIX SPECTRUM RESOURCES, INC | BLNPMDC-19990809AAA | LNP | WMX654 | 302481 | WATONGA, OK |  | BG
NUCENTRIX SPECTRUM RESOURCES, INC | BMAMD-20000818DMH | MA | WMX716 | 302542 | WOODWARD, OK |  | CG
NUCENTRIX SPECTRUM RESOURCES, INC | BMAMD-20000818DMI | MA | WMX712 | 302538 | WOODWARD, OK |  | BG
NUCENTRIX SPECTRUM RESOURCES, INC | BMD-9650621 |  | WNEZ717 | 301801 | NOLANVILLE, TX |  | HG
NUCENTRIX SPECTRUM RESOURCES, INC | BMPMD-9950441 | MP | WMX654 | 302481 | WATONGA, OK |  | BG
NUCENTRIX SPECTRUM RESOURCES, INC | BMPMD-9950442 | MP | WMX655 | 302482 | WATONGA, OK |  | CG
NUCENTRIX SPECTRUM RESOURCES, INC | BPMDB-20011129AAA | P | NEW | 308152 | ABILENE, TX | 003 | F1 F2 F3
NUCENTRIX SPECTRUM RESOURCES, INC | BPMDB-20011129AAD | P | NEW | 308157 | ABILENE, TX | 003 | E2 E3 E4
OGDEN MDS COMPANY | BRMD-9157864 | R | WFY786 | 300730 | WATONGA, OK
ORION BROADCASTING SYSTEMS, INC | BALMDC-19991112AAG | AL | WMX626 | 302454 | ATLANTIC CITY, NJ |  | CG
ORION BROADCASTING SYSTEMS, INC | BLMPMD-19991123AAE | LMP | WHT752 | 300972 | ATLANTIC CITY, NJ |  | EG
PACIFIC TELESIS SOUTHERN VIDEO, INC | BLMPMD-9950145 | LMP | WNTD998 | 301910 | RIVERSIDE, CA |  | H2
PACIFIC TELESIS SOUTHERN VIDEO, INC | BLMPMD-9950146 | LMP | WPW94 | 302312 | RIVERSIDE, CA |  | 1
PACIFIC TELESIS SOUTHERN VIDEO, INC | BLMPMD-9950149 | LMP | WNTL542 | 302243 | RIVERSIDE, CA |  | H3
PAT BRUGGEMAN | BPMDB-20000818DGE | P | NEW | 307691 | COLUMBUS, OH |  | H3
PAUL JACKSON ENTERPRISES | BMPMD-9750103 | MP | WMY415 | 301705 | CHATSWORTH, GA |  | H3
PAUL JACKSON ENTERPRISES | BMPMD-9750104 | MP | WMY416 | 301706 | CHATSWORTH, GA |  | H2
PAUL JACKSON ENTERPRISES | BMPMD-9750105 | MP | WMY417 | 301707 | CHATSWORTH, GA |  | H1
PAUL JACKSON ENTERPRISES, INC | BPMD-19970106JP | P | NEW | 303703 | CHATSWORTH, GA | 102 | EG
PAUL JACKSON ENTERPRISES, INC | BPMD-19970106JQ | P | NEW | 303765 | CHATSWORTH, GA | 102 | FG
PAUL JACKSON ENTERPRISES, INC | BPMD-19970106JR | P | NEW | 303800 | CHATSWORTH, GA | 102 | 1
ROBERT J. WALSER | BLMPMD-9850054 | LMP | WLW756 | 301148 | SAN GERMAN, PR |  | EG
ROBERT J. WALSER | BMLMD-9750874 | ML | WLW756 | 301148 | SAN GERMAN, PR |  | EG
ROBERT J. WALSER | BRMD-20010430AAC | R | WLW756 | 301148 | SAN GERMAN, PR |  | EG
RON ABBOUD | BLMD-9151617 | L | WLW992 | 301256 | OMAHA, NE |  | FG
RURALVISION SOUTH, INC | BEMD-9750121 | E | WMX929 | 301638 | TUCUMCARI, NM |  | H1
RURALVISION SOUTH, INC | BEMD-9750122 | E | WMX930 | 301639 | TUCUMCARI, NM |  | H2
RURALVISION SOUTH, INC | BEMD-9750123 | E | WMX931 | 301640 | TUCUMCARI, NM |  | H3
RVS HOLDING CORPORATION | BEMD-9850304 | E | WMY407 | 301700 | TUCUMCARI, NM |  | 2A
RVS HOLDING CORPORATION | BEMD-9850305 | E | WMY408 | 301701 | TUCUMCARI, NM |  | 1
SAN DIEGO MDS COMPANY | BLMPMD-9550912 | LMP | WHT559 | 300827 | SAN DIEGO, CA |  | 2
SATELLITE MICROCABLE PARTNERS | BEMD-9750219 | E | WMY414 | 301704 | ALPENA, MI |  | 1
SKYTECH COMMUNICATIONS, INC | BPMDC-9252931 | P | NEW | 302416 | LAKE OZARK, MO
SKYTECH COMMUNICATIONS, INC | BPMDC-9252932 | P | NEW | 302417 | LAKE OZARK, MO
SOUTHWEST TELECOMMUNICATIONS COOPERATIVE | BPMDC-9651571 | P | NEW | 302423 | OSHKOSH, NE |  | CG
SOUTHWEST TELECOMMUNICATIONS COOPERATIVE | BPMDC-9651572 | P | NEW | 302424 | OSHKOSH, NE |  | DG
SOUTHWEST TELECOMMUNICATIONS COOPERATIVE | BPMDC-9651573 | P | NEW | 302425 | BARTLEY, NE |  | CG
SOUTHWEST TELECOMMUNICATIONS COOPERATIVE | BPMDC-9651574 | P | NEW | 302426 | BARTLEY, NE |  | DG
SOUTHWEST TELECOMMUNICATIONS COOPERATIVE | BPMDC-9651575 | P | NEW | 302427 | WRAY, CO |  | DG
SOUTHWEST TELECOMMUNICATIONS COOPERATIVE | BPMDC-9651576 | P | NEW | 302428 | WRAY, CO |  | AG
SOUTHWEST TELECOMMUNICATIONS COOPERATIVE | BPMDC-9651577 | P | NEW | 302429 | WAUNETA, NE |  | DG
SOUTHWEST TELECOMMUNICATIONS COOPERATIVE | BPMDC-9651578 | P | NEW | 302430 | WAUNETA, NE |  | CG
SOUTHWEST TELECOMMUNICATIONS COOPERATIVE | BPMDC-9651579 | P | NEW | 302431 | NORTH PLATTE, NE |  | CG
SOUTHWEST TELECOMMUNICATIONS COOPERATIVE | BPMDC-9651580 | P | NEW | 302432 | NORTH PLATTE, NE |  | DG
STEVEN A. DAVIE, M.D. | BLMPMD-9850357 | LMP | WGW371 | 300747 | ROANOKE, VA |  | FG
TCM HOLDINGS, INC | BALMD-980901QR | AL | KNSC928 | 303756 | ALGOOD, TN | 096 | EG
TED AND NANCY PHILLIPS COMPANY | BRMD-20010329AFY | R | WLW782 | 301162 | SANTA FE, NM |  | EG
TELCOM WIRELESS CABLE TV CORP. DBA WISC | BALMD-9950339 | AL | WMH473 | 301294 | LA CROSSE, WI |  | EG
TELCOM WIRELESS CABLE TV CORP. DBA WISC | BRMD-20010402AAS | R | WMH473 | 301294 | LA CROSSE, WI |  | EG
TELCOM WIRELESS CABLE TV CORP. DBA WISC | BRMD-20010402AAT | R | WMH472 | 301293 | LA CROSSE, WI |  | FG
TELCOM WIRELESS CABLE TV CORP. DBA WISC | BRMD-20010402AAU | R | WNTI731 | 302116 | LA CROSSE, WI |  | HG
TELCOM WIRELESS CABLE TV CORP. DBA WISC | BRMDC-20010402AEF | R | WMX643 | 302471 | LA CROSSE, WI |  | D2 D3
TELCOM WIRELESS CABLE TV CORP. DBA WISC | BRMDC-20010402AEG | R | WMX633 | 302461 | LA CROSSE, WI |  | GG
TEX-STAR WIRELESS COMM | BRMD-20010430AAD | R | WNTK882 | 302226 | SNYDER, TX |  | H3
TEX-STAR WIRELESS COMMUNICATIONS ALPHA | BRMD-20010430AAE | R | WMI373 | 301447 | SNYDER, TX |  | EG
TEX-STAR WIRELESS COMMUNICATIONS BETA | BRMD-20010430AAF | R | WMI377 | 301451 | SNYDER, TX |  | FG
THOMAS SCOTT CROSSFIELD | BEMD-9651276 | E | WNTI318 | 302085 | PORTLAND, ME |  | H2
UNION CITY MICROVISION | BEMD-9651135 | E | WNTK889 | 302229 | UNION CITY, TN |  | HG
UNION CITY MICROVISION | BEMD-9651180 | E | WNTK889 | 302229 | UNION CITY, TN |  | HG
UNION CITY MICROVISION | BEMD-9651181 | E | WNTK889 | 302229 | UNION CITY, TN |  | HG
UNION CITY MICROVISION | BRMD-20010330AJQ | R | WGW505 | 300752 | UNION CITY, TN |  | 1
US WIREFREE OLYMPIA, INC | BPMDV-20010824AAC | P | NEW | 308125 | OLYMPIA, WA |  | EG FG
VIRGINIA COMMUNICATIONS, INC | BALMD-20010306AAE | AL | KNSC269 | 303097 | SOUTHSHORE-PORTSMOUTH, OH | 359 | 2A
VIRGINIA COMMUNICATIONS, INC | BALMD-20010306AAH | AL | KNSC621 | 303098 | PRESCOTT VALLEY, AZ | 362 | 2A
VIRGINIA COMMUNICATIONS, INC | BALMD-20010306AAK | AL | KNSC373 | 303315 | ERIE, PA | 131 | 1
VIRGINIA COMMUNICATIONS, INC | BEMD-9750492 | E | WNTJ765 | 302197 | HUNTINGTON, WV |  | H2
VIRGINIA COMMUNICATIONS, INC | BEMD-9750501 | E | WNTJ808 | 302202 | HUNTINGTON, WV |  | H1
WALTER COMMUNICATIONS, INC | BALMD-9551596 | AL | WMH648 | 301339 | HARRISBURG, PA |  | EG
WARREN F. ACHE | BLMPMD-9750757 | LMP | WLR463 | 301108 | BROWNSVILLE, TX |  | FG
WARREN F. ACHE | BLMPMD-9750912 | LMP | WLR475 | 301112 | MCALLEN, TX |  | FG
WBSR LICENSING CORPORATION | BPMDC-9750234 | P | NEW | 302440 | ROSEBURG, OR |  | AG
WBSR LICENSING CORPORATION | BPMDC-9750235 | P | NEW | 302441 | ROSEBURG, OR |  | BG
WBSY LICENSING CORPORATION | BLMPMDC-9551639 | LMP | WMX627 | 302455 | YAKIMA, WA |  | DG
WILLIAMSON FAMILY, LTD | BPMDH-20010611AAG | P | NEW | 307956 | YOUNGSTOWN, OH |  | 1
WINBEAM, INC | BPMDV-20010328AGI | P | NEW | 307986 | ALTOONA, PA | 012 | EG 1 2A
WIRELESS BROADCASTING SYSTEMS OF AMERICA | BPMDC-9750236 | P | NEW | 302442 | COOS BAY, OR |  | BG
WIRELESS BROADCASTING SYSTEMS OF AMERICA | BPMDC-9750237 | P | NEW | 302443 | KLAMATH FALLS, OR |  | CG
WIRELESS BROADCASTING SYSTEMS OF AMERICA | BPMDC-9750238 | P | NEW | 302444 | KLAMATH FALLS, OR |  | AG
WIRELESS BROADCASTING SYSTEMS OF AMERICA | BPMDC-9750239 | P | NEW | 302445 | HELENA, MT |  | AG
WIRELESS BROADCASTING SYSTEMS OF AMERICA | BPMDC-9750240 | P | NEW | 302446 | HELENA, MT |  | BG
WIRELESS BROADCASTING SYSTEMS OF AMERICA | BPMDC-9750241 | P | NEW | 302447 | COOS BAY, OR |  | AG
WIRELESS INTERNET OF NORTH CAROLINA, INC | BPMDB-20000818CUV | P | NEW | 307457 | GREENSBORO, NC |  | E2 E3 E4 F1
WIRELESS INTERNET OF NORTH CAROLINA, INC | BPMDH-20000818CLT | P | NEW | 307208 | GREENSBORO, NC |  | E2 E3 E4 F1
WIRELESS ONE PCS, INC | BLMPMD-9750726 | LMP | WFY435 | 300711 | SAN DIEGO, CA |  | 1
WIRELESS ONE PCS, INC | BLMPMD-9750906 | LMP | WFY435 | 300711 | SAN DIEGO, CA |  | 1
WIRELESS ONE PCS, INC | BMPMD-9750727 | MP | WHJ942 | 300790 | SAN DIEGO, CA |  | H1
WIRELESS SUPERVISION T.V., INC | BPMDC-9201314 | P | NEW | 302402 | KLAMATH FALLS, OR |  | DG
WIRELESS SUPERVISION T.V., INC | BPMDC-9201315 | P | NEW | 302403 | KLAMATH FALLS, OR |  | GG
WORLDCOM BROADBAND SOLUTIONS, INC | BLMPMDB-9950144 | LMP | WPW94B01 | 200045 | GRAND TERRACE, CA |  | 1
WORLDCOM BROADBAND SOLUTIONS, INC | BLMPMDB-9950147 | LMP | WNTD998B01 | 200043 | GRAND TERRACE, CA |  | H2
WORLDCOM BROADBAND SOLUTIONS, INC | BLMPMDB-9950148 | LMP | WNTL542B01 | 200044 | GRAND TERRACE, CA |  | H3
WORLDCOM BROADBAND SOLUTIONS, INC | BRMD-20010402AAF | R | WKR26 | 301018 | NEW ORLEANS, LA |  | 1
WORLDCOM BROADBAND SOLUTIONS, INC | BRMD-9159092 | R | WOF49 | 302293 | CHICAGO, IL |  | 1
WORLDWIDE WIRELESS, LP | BPMD-20000817AAK | P | NEW | 305381 | ELMIRA, NY | 127 | FG
YOUNG COMMUNICATIONS | BRMD-9750578 | R | WNTF452 | 301936 | OMAHA, NE |  | H1

Applicant/Licensee | File No./Call sign | Pleading type | Petitioner (if not applicant) | Filing date
Amarillo Independent School District | BPLIF-19910722DD | Petition to Deny | United States Wireless Cable, Inc | 9/20/91
Amarillo Independent School District | BPLIF-19910722DE | Informal objection | United States Wireless Cable, Inc | 9/2/92
Armstrong State College | BPLIF951020VB | Petition to Deny | Wireless One, Inc. | 1/8/97
ASC Communications, Inc. | 14693-CM-P-83 | Petition for Declaratory Ruling |  | 7/25/94
ASC Communications, Inc. | WMH541 | Petition for Declaratory Ruling |  | 7/25/94
ASC Communications, Inc. | BMPMD-9650762 | Petition for Relief | Pacific Telesis Enterprises | 1/17/96
ASC Communications, Inc. | WMH541 | Petition for Relief | Pacific Telesis Enterprises | 1/17/96
ASC Communications, Inc. | 19991202AAE | Waiver Request |  | 12/2/99
ASC Communications, Inc. | WMH541 | Waiver Request |  | 12/2/99
Catholic Diocese of Caguas | BPLIF-19951020WN | Petition to Deny | Catholic Diocese of Caguas | 7/14/98
Champlain College | BPIF-19911010DS | Petition to Deny | Satellite Signals of New England, Inc | 1/13/92
Concord Community School | 92071DB | Petition to Deny | Jones Community School | 6/13/93
Emerson College | BPLIF-960919AA | Petition to Deny | Hispanic Information and Telecommunications Network, Inc | 3/14/97
Emerson College | WHR758 | Petition to Deny | Hispanic Information and Telecommunications Network, Inc | 10/9/97
Emerson College | 960919AB | Petition to Deny | Hispanic Information and Telecommunications Network, Inc | 10/9/97
Hispanic Information and Telecommunications Network, Inc (Tiverton, RI) | BPIFH20000818AJO | Petition to Deny | Eastern New England Licensee, Inc | 3/30/01
Hispanic Information and Telecommunications Network, Inc (Tiverton, RI) | WLX690 | Petition to Deny | Eastern New England Licensee, Inc | 3/30/01
Hispanic Information and Telecommunications Network, Inc (Tiverton, RI) | BPIFH-20000818AJO; BPIFH20000818AEK | Petition to Deny | Northeastern University | 4/2/01
Hispanic Information and Telecommunications Network, Inc. (Tiverton, RI) | BPIFH-20000818AJO | Petition to Deny | BCTV, Inc. | 6/25/01
MDS Digital Network, Inc. (Los Angeles, CA) | BRMD-20010330ADO | Petition to Deny | Southern Wireless Video, Inc. | 8/1/01
MDS Digital Network, Inc. (Los Angeles, CA) | BRMD-20010330AHV | Petition to Deny | Southern Wireless Video, Inc. | 8/1/01
MDS Digital Network, Inc. (Los Angeles, CA) | BRMD-20010330AHW | Petition to Deny | Southern Wireless Video, Inc. | 8/1/01
MDS Digital Network, Inc. (Los Angeles, CA) | KF179 | Petition to Deny | Southern Wireless Video, Inc. | 8/1/01
MDS Digital Network, Inc. (Los Angeles, CA) | KFF79 | Petition to Deny | Southern Wireless Video, Inc. | 8/1/01
MDS Digital Network, Inc. (Los Angeles, CA) | WPY40 | Petition to Deny | Southern Wireless Video, Inc. | 8/1/01
Mesa Unified School District #4 | BPLIF-19951020QF | Petition to Deny | Instructional Telecommunications Foundation, Inc | 9/8/97
Norwich University | BPLIF-911008DD | Petition to Deny | Satellite Signals of New England, Inc | 1/13/92
Reid Institute | BPLIF-19951020HN | Petition to Deny | Instructional Telecommunications Foundation, Inc | 7/11/97
Richmond Hill Christian Academy | BPLIF-951020PH | Petition to Deny | The Board of Public Education for the City of Savannah and County of Chatham and Wireless Cable of Florida, Inc | 8/6/98
Robert Walser | 50054-CM-P-98 | Petition to Deny | Hispanic Information and Telecommunications Network, Inc | 5/15/98
St. Michael's College | BPIF-19911008DQ | Petition to Deny | Satellite Signals of New England, Inc | 1/13/92
Technical Trade Institute | 9501020SH | Informal Objection | Hispanic Information and Telecommunications Network, Inc | 6/16/97
Tex-Star Wireless Communications | BLMD-9350779 | Petition for Relief | Heartland Wireless Commercial Channels, Inc | 2/25/97
Tex-Star Wireless Communications | BLMD-9350780 | Petition for Relief | Heartland Wireless Commercial Channels, Inc | 2/25/97
Tex-Star Wireless Communications | BLMD-9450245 | Petition for Relief | Heartland Wireless Commercial Channels, Inc | 2/25/97
Tex-Star Wireless Communications | WMI373 | Petition for Relief | Heartland Wireless Commercial Channels, Inc | 2/25/97
Tex-Star Wireless Communications | WMI377 | Petition for Relief | Heartland Wireless Commercial Channels, Inc | 2/25/97
Tex-Star Wireless Communications | WNTK882 | Petition for Relief | Heartland Wireless Commercial Channels, Inc | 2/25/97
Tex-Star Wireless Communications | BRMD-20010430AAE | Petition to Deny | Heartland Wireless Commercial Channels, Inc | 8/2/01
Tex-Star Wireless Communications | BRMD-20010430AAF | Petition to Deny | Heartland Wireless Commercial Channels, Inc | 8/2/01
Tex-Star Wireless Communications | BRMD-20010430AAD | Petition to Deny | Heartland Wireless Commercial Channels, Inc | 8/2/01
Tex-Star Wireless Communications | WMI373 | Petition to Deny | Heartland Wireless Commercial Channels, Inc | 8/2/01
Tex-Star Wireless Communications | WMI377 | Petition to Deny | Heartland Wireless Commercial Channels, Inc | 8/2/01
Tex-Star Wireless Communications | WNTK882 | Petition to Deny | Heartland Wireless Commercial Channels, Inc | 8/2/01
Trocki Hebrew Academy of Atlantic County | BPLIF-951020BH | Petition to Deny | Instructional Telecommunications Foundation, Inc | 5/6/98
Trocki Hebrew Academy of Atlantic County | WHR527 | Petition to Deny | Instructional Telecommunications Foundation, Inc | 5/6/98
Western New Mexico University | BMPLIF-951019BL | Petition to Deny | Hispanic Information and Telecommunications Network, Inc | 7/17/97

[FR Doc. 03-17831 Filed 7-14-03; 8:45 am]

BILLING CODE 6712-01-P